DEPARTMENT OF THE INTERIOR

National Park Service

[NPS-WASO-NRNHL-DTS#-38308; PPWOCRADI0, PCU00RP14.R50000]

National Register of Historic Places; Notification of Pending Nominations and Related Actions

AGENCY: National Park Service, Interior.

ACTION: Notice.

SUMMARY: The National Park Service is soliciting electronic comments on the significance of properties nominated before July 6, 2024, for listing or related actions in the National Register of Historic Places.

DATES: Comments should be submitted electronically by August 1, 2024.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before July 6, 2024. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers.

Key: State, County, Property Name, Multiple Name (if applicable), Address/Boundary, City, Vicinity, Reference Number.

IOWA

Clinton County

Iowa Mutual Insurance Company Home Office, 509 9th Street, DeWitt, SG100010667

MASSACHUSETTS

Plymouth County

North Downtown Historic District (Historic Resources of Downtown Brockton Dating to the Height of the Shoe Industry, 1840-1946 MPS), Roughly bounded by Main and North Main Streets between Linden Street to the north, Legion Parkway to the south, extending west to Warren Avenue between Spring Street to the north and Legion Parkway to the south, Brockton, MP100010689

MONTANA

Rosebud County

Head Chief-Young Mule Charge, Immediately east of Chief Dull Knife College, Lame Deer, SG100010680

NORTH CAROLINA

Alamance County

Copland Fabrics, 1714 Carolina Mill Road. 1746 Carolina Mill Road. 1711 Carolina Road, 1717 Carolina Road, Burlington, SG100010660

Sidney Cotten Mill, 909 Washington Street, Graham, SG100010676

Alexander County

Downtown Taylorsville Historic District, 12-46 West Main Avenue, 11-163 East Main Avenue (north side), 72-134 Main Avenue Drive (north side), and 1-19 South Center Street, Taylor, SG100010675

Burke County

Walker Top Baptist Church, 7442 Burkemont Road, Morganton, SG100010674

Cleveland County

Seven Gables, 1340 East Marion Street, Shelby, SG100010673

Durham County

West End Cemeteries Historic District, 1000-1800 Morehead Avenue, Durham, SG100010669

Geer Cemetery, 800 Colonial Street, Durham, SG100010672

Forsyth County

R.J. Reynolds Tobacco Company Buildings 82 and 83, 821 East Twenty-Fifth Street, Winston-Salem, SG100010664

Henderson County

Stepp's Mill, 1055 Stepp Mill Road, Hendersonville vicinity, SG100010671

Nash County

Tobacco Growers Cooperative Association Warehouse, 723 Barnes Street, Nashville, SG100010678

Pasquotank County

Elizabeth City Cotton Mills, 451 North Hughes Boulevard, Elizabeth City, SG100010666

OHIO

Cuyahoga County

Park Synagogue, 3300 Mayfield Rd, Cleveland Heights, SG100010658

Mahoning County

Youngstown Foundry and Machine East Boardman Works, 365 E. Boardman Street, Youngstown, SG100010679

Preble County

Euphemia Inn and Tavern, 303 W. Cumberland Street (Route 40, National Road), Lewisburg, SG100010659

TENNESSEE

Davidson County

First Community Church, (The Civil Rights Movement in Nashville, Tennessee, 1942-1969 MPS), 1815 Knowles Street, Nashville, MP100010662

Clark Memorial Methodist Church Complex, (The Civil Rights Movement in Nashville, Tennessee, 1942-1969 MPS), 1014 14th Avenue North and 1218-1220 Phillips Street, Nashville, MP100010663

TEXAS

Bexar County

Casa de Dias (House of God), 910 E. Mistletoe Avenue, San Antonio, SG100010651

Harris County

Knapp Building (1940), 1230 Houston Avenue, Houston, SG100010652

VIRGINIA

Buena Vista INDEPENDENT CITY

Columbian Paper Company, I Bontex Drive, Buena Vista, SG100010685

Roanoke County

Vinton Downtown Historic District, S. Pollard Street, Lee Avenue, W. Jackson Street, S. Maple Street, Vinton, SG100010683

Rockbridge County

Paxton House, 240 Sales Mill Road, Fairfield vicinity, SG10001068

WYOMING

Campbell County

Campbell County State Experiment Farm, Exhibition Hall, 2910 Doubletree Lane, Gillette vicinity, SG100010677

Additional documentation has been received for the following resource(s):

IOWA

Van Buren County

Bentonsport (Additional Documentation), E of Keosauqua on the Des Moines River, Keosauqua vicinity, AD72000482

NORTH CAROLINA

Franklin County

Perry School (Additional Documentation), 2226 Laurel Mill-Centerville Road, Centerville vicinity, AD10001110

OHIO

Licking County

Avery-Hunter House (Additional Documentation), 221 E. Broadway, Granville, AD79001877

TENNESSEE

Benton County

Thompson, William, House (Additional Documentation), At the end of Bakers Lane, Camden vicinity, AD76001763

Campbell County

Smith-Little-Mars House (Additional Documentation), 4110 Old Middlesboro Highway, Speedwell vicinity, AD76001767

Franklin County

Simmons, Peter, House (Additional Documentation), 13325 David Crockett Highway, Winchester vicinity, AD77001272

Giles County

Wilson-Young House (Additional Documentation), 1300 Dellrose Road, Dellrose vicinity, AD73001766

Nomination(s) submitted by Federal Preservation Officers:

The State Historic Preservation Officer reviewed the following nomination(s) and responded to the Federal Preservation Officer within 45 days of receipt of the nomination(s) and supports listing the properties in the National Register of Historic Places.

UTAH

Salt Lake County

Little Cottonwood Canyon Climbing Area, 4385 Little Cottonwood Canyon Road, Sandy, SG100010670

Authority: Section 60.13 of 36 CFR part 60.

Sherry A. Frear,
Chief, National Register of Historic Places/National Historic Landmarks Program.

[FR Doc. 2024-15701 Filed 7-16-24; 8:45 am]

BILLING CODE 4312-52-P